ENVIRONMENTAL PROTECTION AGENCY

[EPA-R01-OAR-2006-0226; A-1-FRL-8221-1]

Adequacy Status of Motor Vehicle Budgets in Submitted State Implementation Plan for Transportation Conformity Purposes; Maine; Maintenance Plan Motor Vehicle Emissions Budgets for the Portland Maine 8-Hour Ozone Area, and the Hancock, Knox, Lincoln and Waldo Counties Maine 8-Hour Ozone Area

AGENCY: Environmental Protection Agency (EPA).

ACTION: Notice of adequacy.

SUMMARY: In this notice, EPA is notifying the public that EPA has found that the 2016 motor vehicle emissions budgets in the August 3, 2006 Maine State Implementation Plan (SIP) revision are adequate for transportation conformity purposes. The submittal included MOBILE6.2 motor vehicle emissions budgets for 2016 for the Portland Maine 8-Hour Ozone Area, and the Hancock, Knox, Lincoln and Waldo Counties (Midcoast) Maine 8-Hour Ozone Area. On March 2, 1999, the DC Circuit Court ruled that budgets in submitted SIPs cannot be used for conformity determinations until EPA has affirmatively found them adequate. As a result of our finding, the Portland Maine 8-hour ozone area and the Midcoast Maine 8-hour ozone area can use the MOBILE6.2 motor vehicle emissions budgets from the submitted plan for future conformity determinations.

DATES: These motor vehicle emissions budgets are effective October 5, 2006.

FOR FURTHER INFORMATION CONTACT: Donald O. Cooke, Environmental Scientist, Air Quality Planning Unit, U.S. Environmental Protection Agency, EPA New England Regional Office, One Congress Street, Suite 1100 (CAQ), Boston, MA 02114-2023, (617) 918-1668, cooke.donald@epa.gov.

SUPPLEMENTARY INFORMATION: Throughout this document, whenever “we,” “us” or “our” is used, we mean EPA.

Today's notice is simply an announcement of a finding that we have already made. EPA New England sent a letter to Maine Department of Environmental Protection on September 8, 2006, stating that the 2016 MOBILE6.2 motor vehicle emissions budgets in the August 3, 2006 State Implementation Plans (SIPs) are adequate for transportation conformity purposes. This finding will also be announced on EPA's conformity Web site: http://www.epa.gov/otaq/stateresources/transconf/adequacy.htm, (once there, click on “What SIP submissions has EPA already found adequate or inadequate?”). The adequate motor vehicle emissions budgets (MVEBs) are provided in the following table:

Adequate Motor Vehicle Emissions Budgets
| VOC (tons per summer day) | NOX (tons per summer day)
Year 2016 MVEBs for the Portland 8-hour Ozone Area | 16.659 | 32.837
Year 2016 MVEBs for the Midcoast 8-hour Ozone Area | 3.763 | 6.245

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in a May 14, 1999 memorandum entitled “Conformity Guidance on Implementation of March 2, 1999 Conformity Court Decision.” Additional guidance on EPA's adequacy process was published in a July 1, 2004 Federal Register final rulemaking, “Transportation Conformity Rule Amendments for the New 8-hour Ozone and PM2.5 National Ambient Air Quality Standards and Miscellaneous Revisions for Existing Areas; Transportation Conformity Rule Amendments: Response to Court Decision and Additional Rule Changes” (69 FR 40004). We followed this guidance in making our adequacy determination.

Authority: 42 U.S.C. 7401-7671q.

Dated: September 11, 2006.
Robert W. Varney,
Regional Administrator, EPA New England.

[FR Doc. E6-15599 Filed 9-19-06; 8:45 am]

BILLING CODE 6560-50-P